RAILROAD RETIREMENT BOARD

Agency Forms Submitted for OMB Review, Request for Comments

In accordance with the Paperwork Reduction Act of 1995 (44 U.S.C. chapter 35), the Railroad Retirement Board (RRB) is forwarding 4 Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and Purpose of information collection: Certification Regarding Rights to Unemployment Benefits; OMB 3220-0079.

Under section 4 of the Railroad Unemployment Insurance Act (RUIA) (45 U.S.C. 354), an employee who leaves work voluntarily is disqualified for unemployment benefits unless the employee left work for good cause and is not qualified for unemployment benefits under any other law. RRB Form UI-45, Claimant's Statement—Voluntary Leaving of Work, is used by the RRB to obtain the claimant's statement when the claimant, the claimant's employer, or another source indicates that the claimant has voluntarily left work.

Completion of Form UI-45 is required to obtain or retain benefits. One response is received from each respondent.

Previous Requests for Comments: The RRB has already published the initial 60-day notice (88 FR 41993 on June 28, 2023) required by 44 U.S.C. 3506(c)(2). That request elicited no comments.

Information Collection Request (ICR)

Title: Certification Regarding Rights to Unemployment Benefits.

OMB Control Number: 3220-0079.

Form(s) submitted: UI-45.

Type of request: Extension without change of a currently approved collection.

Affected public: Individuals or households.

Abstract: In administering the disqualification for the voluntary leaving of work provision of Section 4 of the Railroad Unemployment Insurance Act, the Railroad Retirement Board investigates an unemployment claim that indicates the claimant left voluntarily. The certification obtains information needed to determine if the leaving was for good cause.

Changes proposed: The RRB proposes no changes to Form UI-45.

The burden estimate for the ICR is as follows:

Form No. | Annual responses | Time (minutes) | Burden (hours)
UI-45 | 200 | 15 | 50

2. Title and Purpose of information collection: Self-Employment and Substantial Service Questionnaire; OMB 3220-0138.

Section 2 of the Railroad Retirement Act (RRA) (45 U.S.C. 231a) provides for payment of annuities to qualified employees and their spouses. In order to receive an age and service annuity, section 2(e)(3) states that an applicant must stop all railroad work and give up any rights to return to such work. However, applicants are not required to stop nonrailroad work or self-employment.

The RRB considers some work claimed as “self-employment” to actually be employment for an employer. Whether the RRB classifies a particular activity as self-employment or as work for an employer depends upon the circumstances of each case. These circumstances are prescribed in 20 CFR 216.

Under the 1988 amendments to the RRA, an applicant is no longer required to stop work for a “Last Pre-Retirement Nonrailroad Employer” (LPE). However, section 2(f)(6) of the RRA requires that a portion of the employee's Tier II benefit and supplemental annuity be deducted for earnings from the “LPE.”

The “LPE” is defined as the last person, company, or institution with whom the employee or spouse applicant was employed concurrently with, or after, the applicant's last railroad employment and before their annuity beginning date. If a spouse never worked for a railroad, the LPE is the last person for whom he or she worked.

The RRB utilizes Form AA-4, Self-Employment and Substantial Service Questionnaire, to obtain information needed to determine if the work the applicant claims is self-employment is really self-employment or work for an LPE or railroad service. If the work is self-employment, the questionnaire identifies any month in which the applicant did not perform substantial service.

Completion is voluntary. However, failure to complete the form could result in the nonpayment of benefits. One response is requested of each respondent.

Previous Requests for Comments: The RRB has already published the initial 60-day notice (88 FR 41993 on June 28, 2023) required by 44 U.S.C. 3506(c)(2). That request elicited no comments.

Information Collection Request (ICR)

Title: Self-Employment and Substantial Service Questionnaire.

OMB Control Number: 3220-0138.

Form(s) submitted: AA-4.

Type of request: Extension without change of a currently approved collection.

Affected public: Individuals or households.

Abstract: Section 2 of the Railroad Retirement Act (RRA) provides for payment of annuities to qualified employees and their spouses. Work for a Last Pre-Retirement Nonrailroad Employer (LPE), and work in self-employment affect payment in different ways. This collection obtains information to determine whether claimed self-employment is really self-employment, and not work for a railroad or LPE.

Changes proposed: The RRB proposes no changes to the form AA-4.

The burden estimate for the ICR is as follows:

Form No. | Annual responses | Time (minutes) | Burden (hours)
AA-4 (With assistance) | 1,109 | 40 | 739
AA-4 (Without assistance) | 58 | 70 | 68
Total | 1,167 |  | 807

3. Title and purpose of information collection: Vocational Report; OMB 3220-0141.

Section 2 of the Railroad Retirement Act (RRA) (45 U.S.C. 231a) provides for payment of disability annuities to qualified employees and widow(ers). The establishment of permanent disability for work in the applicant's “regular occupation” or for work in any regular employment is prescribed in 20 CFR 220.12 and 220.13 respectively.

The RRB utilizes Form G-251, Vocational Report, to obtain an applicant's work history. This information is used by the RRB to determine the effect of a disability on an applicant's ability to work. Form G-251 is designed for use with the RRB's disability benefit application forms and is provided to all applicants for employee disability annuities and to those applicants for a widow(er)'s disability annuity who indicate that they have been employed at some time.

Completion is required to obtain or retain a benefit. One response is requested of each respondent.

Previous Requests for Comments: The RRB has already published the initial 60-day notice (88 FR 41994 on June 28, 2023) required by 44 U.S.C. 3506(c)(2). That request elicited no comments.

Information Collection Request (ICR)

Title: Vocational Report.

OMB Control Number: 3220-0141.

Form(s) submitted: G-251.

Type of request: Extension without change of a currently approved collection.

Affected public: Individuals or households.

Abstract: Section 2 of the Railroad Retirement Act provides for the payment of disability annuities to qualified employees and widow(er)s. In order to determine the effect of a disability on an annuitant's ability to work, the RRB needs the applicant's work history. The collection obtains the information needed to determine their ability to work.

Changes proposed: The RRB proposes no changes to Form G-251.

The burden estimate for the ICR is as follows:

Form No. | Annual responses | Time (minutes) | Burden (hours)
G-251 (with assistance) | 2,866 | 40 | 1,911
G-251 (without assistance) | 136 | 50 | 113
Total | 3,002 |  | 2,024

4. Title and Purpose of information collection: Designation of Contact Officials; 3220-0200.

Coordination between railroad employers and the RRB is essential to properly administer the payment of benefits under the Railroad Retirement Act (RRA) and the Railroad Unemployment Insurance Act (RUIA). In order to enhance timely coordination activity, the RRB utilizes Form G-117A, Designation of Contact Officials. Form G-117A is used by railroad employers to designate employees who are to act as point of contact with the RRB on a variety of RRA and RUIA-related matters.

Form G-117a (internet), Designation of Contact Officials, is available to employers who request access to the form through the RRB's Employer Reporting System (ERS). The G-117a (internet) consists of a series of screens that allows users to view the Contact Officials currently on file for the employer. Users will be able to edit and delete existing Contact Officials, as well as add new Contact Officials. The screen to edit and add Contact Officials collects essentially the same information as the approved paper Form G-117a. The internet version provides for the required notices and certifications, contains help messages to ensure users provide valid contact information, and prevents users from deleting Contact Officials without first providing a replacement.

Completion is voluntary. One response is requested from each respondent.

Previous Requests for Comments: The RRB has already published the initial 60-day notice (88 FR 41994 on June 28, 2023) required by 44 U.S.C. 3506(c)(2). That request elicited no comments.

Information Collection Request (ICR)

Title: Designation of Contact Officials.

OMB Control Number: 3220-0200.

Form(s) submitted: G-117A & G-117A (internet).

Type of request: Revision of a currently approved collection.

Affected public: Private sector; businesses or other for profits.

Abstract: The Railroad Retirement Board (RRB) requests that railroad employers designate employees to act as liaison with the RRB on a variety of Railroad Retirement Act and Railroad Unemployment Insurance Act matters.

Changes proposed: The RRB proposes to change the Form G-117a (Paper) by adding updated language in section 12, Signature line. The language proposed is, “The above officials of this employer are authorized to serve in the capacities indicated and to act as trusted referees for the RRB in accordance with the National Institute of Standards and Technology (NIST) Special Publication 800-63A guidelines for online reporting access.” The RRB proposes no changes to Form G-117a (internet).

The burden estimate for the ICR is as follows:

Form No. | Annual responses | Time (minutes) | Burden (hours)
G-117A | 25 | 15 | 6
G-117a (Internet) | 200 | 5 | 17
Total | 225 |  | 23

Additional Information or Comments: Copies of the forms and supporting documents can be obtained from Kennisha Money at (312) 469-2591 or Kennisha.Money@rrb.gov. Comments regarding the information collection should be addressed to Brian Foster, Railroad Retirement Board, 844 North Rush Street, Chicago, Illinois 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2023-18980 Filed 8-31-23; 8:45 am]

BILLING CODE 7905-01-P